FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants:

Safe Ocean Line, Inc., 8555 NW. 20 Street, Miami, FL 33122. Officers: Gloria Gil, President (Qualifying Individual), Manuel Taracon, Export Manager.

Zircon (USA) Logistics, Inc., 504 Royal Palm Beach Blvd., Royal Palm Beach, FL 33411. Officers: Warren Jeffery, President (Qualifying Individual), David Thorpe, Vice President.

Non-Vessel Operating Common Carrier and Ocean Freight Forwarder Transportation Intermediary Applicants:

Sea Air Systems, Inc., Foreign Trade Zone #61, Rd. 165, Km 2.4, Bldg. 1 Warehouse 10, Pueblo Viejo, Guaynabo, PR 00965. Officers: Jose F. Blazquez, Managing (Qualifying Individual).

Landstar Logistics, Inc., 13410 Sutton Park Drive, South, Jacksonville, FL 32224. Officers: Jim Handoush, Vice President (Qualifying Individual), James R. Hertwig, President.

Africa 2000 Inc., 57-52 W. Little York, Houston, TX 77091. Officers: Ndiaga Lo, President (Qualifying Individual), Name Bity Seye, Assistant Director.

FYT, Inc., 17588 E. Rowland St., Suite A216, City of Industry, CA 91748. Officer: Hong Jian Yao, Owner (Qualifying Individual).

OEC Freight Companies, 18900 8th Avenue, South #900, Seatac, WA 98148. Officers: Peter M. Ku, Station Manager (Qualifying Individual), Steven Fong, President.

PMJ International Inc., 516 Mountainview Drive, North Plainfield, NJ 07063. Officer: Pelham Hicks, President (Qualifying Individual).

Ocean Freight Forwarder—Ocean Transportation Intermediary Applicants:

Honor Truck & Transfer, Inc., 1100 DeForest Avenue, Long Beach, CA 90813. Officers: Ali Behruz Nikkhoo, President (Qualifying Individual), Robert J. Livingston, Vice President.

JVL International Corporation, 2200 Broening Highway, Suite 277, Baltimore, MD 21224. Officer: Jorge Luiz Vieira Lima, Managing Director (Qualifying Individual).

Lukini Shipping Inc., Cargo Building 80, Rm. 203, JFK International Airport, Jamaica, NY 11430. Officer: Miriam Y. Chen, Gen. Manager/Director (Qualifying Individual).

Dated: November 22, 2002.
Bryant L. VanBrakle,
Secretary.

[FR Doc. 02-30151 Filed 11-26-02; 8:45 am]

BILLING CODE 6730-01-P